DEPARTMENT OF THE INTERIOR

Fish and Wildlife Service

2006 Migratory Bird Hunting and Conservation Stamp (Federal Duck Stamp) Contest

AGENCY: Fish and Wildlife Service, Interior.

ACTION: Notice.

SUMMARY: We, the U.S. Fish and Wildlife Service, announce the dates and location of the 2006 Federal Duck Stamp contest, and the species eligible to be subjects for this year's designs. The 2006 contest will be the second contest to take place outside of Washington, DC. We invite the public to enter and to attend.

DATES:

1. The official date to begin submission of entries to the 2006 contest is June 1, 2006. All entries must be postmarked no later than midnight, Monday, August 15, 2006.

2. The public may view the 2006 Federal Duck Stamp entries at the Memphis location (see ADDRESSES) beginning on Monday, September 25, 2006 (9 a.m. to 5 p.m.), and through all the days of judging. Judging will be held on Friday, October 6, 2006, beginning at 6 p.m., and on Saturday, October 7, 2006, beginning at 9 a.m., at the Memphis location.

ADDRESSES: Requests for complete copies of the contest rules, reproduction rights agreement, and display and participation agreement may be requested by calling 1-703-358-2000, or requests may be addressed to: Federal Duck Stamp Contest, U.S. Fish and Wildlife Service, Department of the Interior, 4401 North Fairfax Drive, Mail Stop MBSP-4070, Arlington, VA 22203-1622. You may also download the information from the Federal Duck Stamp Web site at http://duckstamps.fws.gov.

The contest will be held at the Memphis College of Art in Overton Park, 1930 Poplar Avenue, Memphis, TN 38104.

FOR FURTHER INFORMATION CONTACT: Mr. Ryan W. Booth, Federal Duck Stamp Office, by phone at (703) 358-2004, or by e-mail to Ryan_W_Booth@fws.gov, or by fax at (703) 358-2009.

SUPPLEMENTARY INFORMATION:

Background

On March 16, 1934, Congress passed and President Franklin Roosevelt signed the Migratory Bird Hunting Stamp Act (16 U.S.C. 718-718j, 48 Stat. 452). Popularly known as the Duck Stamp Act, it required all waterfowl hunters 16 years or older to buy a stamp annually. The revenue generated was originally earmarked for the Department of Agriculture, but 5 years later was transferred to the Department of the Interior and the U.S. Fish and Wildlife Service to buy or lease waterfowl sanctuaries. Regulations governing the contest appear at 50 CFR part 91.

In the years since, the Federal Duck Stamp Program has become one of the most popular and successful conservation programs ever initiated. Today, some 1.8 million stamps are sold each year, and as of 2004, Federal Duck Stamps have generated more than $700 million for the preservation of more than 5.2 million acres of waterfowl habitat in the United States. Numerous other birds, mammals, fish, reptiles, and amphibians have similarly prospered because of habitat protection made possible by the program. An estimated one-third of the Nation's endangered and threatened species find food or shelter in wetland habitat. Moreover, the protected wetlands help dissipate storms, purify water supplies, store flood water, and nourish fish hatchlings important for sport and commercial fishermen.

The Contest

The first Federal Duck Stamp was designed at President Franklin Roosevelt's request in 1934 by Jay N. “Ding” Darling, a nationally known political cartoonist for the Des Moines Register and a noted hunter and wildlife conservationist. In subsequent years, noted wildlife artists were asked to submit designs. The first contest was opened in 1949 to any U.S. artist who wished to enter, and 65 artists submitted a total of 88 design entries in what remains the only art competition of its kind sponsored by the U.S. Government. The Secretary of the Interior appoints a panel of noted art, waterfowl, and philatelic authorities to select each year's design. Winners receive no compensation for their work, except a pane of their stamps, but winners may sell prints of their designs, which are sought by hunters, conservationists, and art collectors.

The 2006 contest will be the second contest to take place outside of Washington, DC. We plan to hold future duck stamp contests in various U.S. locations corresponding to flyways.

Contest Fee: All entrants must submit a nonrefundable fee of $125.00 by cashier's check, certified check, or money order made payable to: U.S. Fish and Wildlife Service.

Eligible species

The following species are eligible for the 2006 contest: American widgeon, wood duck, gadwall, ring-necked duck, and cinnamon teal. Entries featuring a species other than the above listed species will be disqualified.

Dated: January 20, 2006.
Thomas O. Melius,
Acting Director.

[FR Doc. E6-885 Filed 1-24-06; 8:45 am]

BILLING CODE 4310-55-P